DEPARTMENT OF TRANSPORTATION

Federal Transit Administration

Environmental Impact Statement for the Spokane Regional Light Rail (South Valley Corridor) Project in Spokane, Washington Metropolitan Area

AGENCY: Federal Transit Administration, DOT.

ACTION: Notice of intent to prepare an environmental impact statement that includes two new alternatives.

SUMMARY: The Federal Transit Administration (FTA) and the Spokane Transit Authority (STA) intend to prepare an Environmental Impact Statement (EIS) in accordance with the National Environmental Policy Act (NEPA) for transit improvements in Spokane County, between downtown Spokane and Liberty Lake. The EIS will be prepared to satisfy both NEPA and the Washington State Environmental Policy Act (SEPA). This project was originally scoped as an Environmental Assessment (EA), but transitioned to an Environmental Impact Statement as a result of a second scoping meeting held on June 4, 2002. Because of the recent demonstrated need to study two additional lower cost build alternatives, an additional scoping meeting will be required.

The purpose of this Notice of Intent is to notify interested parties of the intent to prepare an EIS with two additional build alternatives and to invite participation in the study. The project proposes to implement a major high capacity transit improvement in the Spokane Metropolitan area that maintains livability, manages growth and provides a balanced transportation system. The Proposed Action is intended to contribute to implementation of a series of state, regional, and local planning policies that address air quality, sprawl, and growth. In addition to the original alternatives, two new alternatives (described below) will be evaluated in the EIS.

DATES: The public is welcome to make comments on the scope of the proposed project. Written comments should be sent to the Spokane Transit Authority within 30 days from the date of publication of this notice in the local newspaper or September 18, 2003, whichever is later. A packet on the proposed project, project alternatives, and the scoping process may be obtained from the Spokane Transit Authority. The information may also be obtained by sending an electronic request through the “Contact Us” section of the project Web site, www.spokanelightrail.com. A Public Open House/Scoping Meeting will be held on Thursday, September 4, 2003 from 5 p.m. to 7 p.m. PDT, at the Kress Gallery on the third floor of the Riverpark Square Mall, located at 808 West Main Avenue, Spokane, WA 99206. An Agency Scoping Meeting will be held at 1:30 p.m. PDT on Thursday, September 4, 2003, at the Spokane Transit Authority (STA) Board Room, 1230 West Boone Avenue, Spokane, WA 99201. Both meeting locations are accessible to persons with disabilities. Any individual with a disability who requires special assistance, such as a sign language interpreter, should contact Geralyn Garberg at (509) 325-6000, ext. 196 or e-mail ggarberg@spokanetransit.com, at least 48 hours in advance of the meeting in order for STA to make necessary arrangements.

FOR FURTHER INFORMATION CONTACT: The Spokane Transit Authority Agency Coordination contact is Lesley Sutton, Project Executive Assistant at (509) 325-6056 or e-mail: lsutton@spokanetransit.com. The STA Public Information contact is Molly Myers, Project Communications Manager at (509) 325-6090 or e-mail mmyers@spokanetransit.com. The STA TDD number is (509) 456-4327. Written comments should be sent to: Spokane “South Valley Corridor” Project Manager, Spokane Transit Authority, 1230 West Boone Ave., Spokane, WA 99201.

The Federal agency contact is John Witmer, Federal Transit Administration, 915 Second Avenue, Suite 3142, Jackson Federal Building, Seattle, WA 98174. Phone (206) 220-7964.

SUPPLEMENTARY INFORMATION:

1. Notice of Intent

This Notice of Intent to prepare an EIS is being published to notify interested parties. The Spokane “South Valley Corridor” Project is examining two new high-capacity transit build alternatives in the south valley portion of the Spokane metropolitan area. Because the study is a transit alternatives study, FTA regulations and guidance will be used for the analysis and preparation of the South Valley Corridor Project EIS.

2. Study Area

The South Valley Corridor includes an area roughly parallel to I-90 running east through downtown Spokane, southeast Spokane, the City of Spokane Valley, unincorporated urban Spokane County, and into the City of Liberty Lake. The proposed alternatives primarily utilize existing right-of-ways along operational and former railroad corridors and roadways.

3. Alternatives

The three original alternatives are as follows: (#1) The No-Build Alternative will provide the basis for comparison of the build alternatives. The No-Build Alternative includes the existing transportation system plus projects listed in the Spokane Metropolitan Area Transportation Improvement Program (TIP). (#2) The Separate Rail Alignment Alternative includes a light rail transit line running from downtown Spokane to Liberty Lake on an exclusive alignment. (#3) The Shared Rail Alignment includes a light rail line from downtown Spokane to Liberty Lake sharing existing rail lines with the Union Pacific Railroad along portions of the alignment. This alternative would use operating time restrictions to separate light rail traffic from heavy rail traffic. Between the two termini there would be intermediate stations and associated local parking. Both the separate rail alignment and shared rail alignment Build Alternatives may use either electrified or diesel multiple unit (DMU) vehicle technology. These alternatives will also incorporate in-street operations along Riverside Avenue, between Post Street and Division Street. The rail options will utilize the former Milwaukee Road rail corridor, east of University Road.

The two new alternatives are as follows: (#4) The Rail Minimum Operable Segment (MOS) Rail alternative is similar to the Shared Rail Alignment alternative except the rail portion of the alignment has an eastern terminus at University City. The rail segment assumes the use of Diesel Multiple Unit (DMU) vehicles and a possible interface with a separate project that includes a Downtown Spokane streetcar system. The rest of the east-west corridor from University City to Liberty Lake will be served by a low-cost transit segment that will utilize Bus Rapid Transit (BRT) strategies and rubber-tired BRT vehicles on existing roadways. The second new alternative (#5) serves the entire corridor with low-cost Bus Rapid Transit (BRT) strategies using rubber-tired BRT vehicles on existing roadways.

4. Probable Effects

FTA and Spokane Transit Authority will evaluate the environmental, social and economic impacts of the alternatives and measures to mitigate any adverse impacts.

Issued on July 16, 2003.
Linda M. Gehrke,
Acting Regional Administrator, FTA Region 10.

[FR Doc. 03-19153 Filed 7-25-03; 8:45 am]

BILLING CODE 4910-57-P